DEPARTMENT OF ENERGY

Federal Energy Regulatory Commission

Notice of Effectiveness of Exempt Wholesale Generator Status

| Docket Nos.
Ford County Wind Farm LLC | EG21-211-000
Quinebaug Solar, LLC | EG21-212-000
Borderlands Wind, LLC | EG21-213-000
Hecate Energy Johanna Facility LLC | EG21-214-000
SR Perry, LLC | EG21-215-000
Caddo Wind, LLC | EG21-216-000
Delilah Solar Energy LLC | EG21-217-000
E. BarreCo Corp LLC | EG21-218-000
Lick Creek Solar, LLC | EG21-219-000
PGR 2021 Lessee 5, LLC | EG21-220-000
Montague Solar, LLC | EG21-221-000
Fairbanks Solar Holdings LLC | EG21-222-000
Fairbanks Solar Energy Center LLC | EG21-223-000
PGR 2021 Lessee 7, LLC | EG21-224-000
Bat Cave Energy Storage, LLC | EG21-225-000
BRP Dickinson BESS LLC | EG21-226-000
BRP Pueblo I BESS, LLC | EG21-227-000
BRP Pueblo II BESS, LLC | EG21-228-000
BRP Zapata I BESS, LLC | EG21-229-000
BRP Zapata II BESS, LLC | EG21-230-000
BRP Loop 463 BESS LLC | EG21-231-000
BRP Lopeno BESS LLC | EG21-232-000
North Fork Energy Storage, LLC | EG21-233-000
Highest Power Solar, LLC | EG21-234-000
Mark One Generating, LLC | EG21-235-000
Sagebrush ESS, LLC | EG21-236-000

Take notice that during the month of October 2021, the status of the above-captioned entities as Exempt Wholesale Generators became effective by operation of the Commission's regulations. 18 CFR 366.7(a) (2020).

Dated: November 4, 2021.
Debbie-Anne A. Reese,
Deputy Secretary.

[FR Doc. 2021-24595 Filed 11-9-21; 8:45 am]

BILLING CODE 6717-01-P